ENVIRONMENTAL PROTECTION AGENCY

[EPA-HQ-OW-2014-0350; FRL-9616-01-OMS]

Information Collection Request Submitted to OMB for Review and Approval; Comment Request; EPA's National Fish Program (Renewal)

AGENCY: Environmental Protection Agency (EPA).

ACTION: Notice.

SUMMARY: The Environmental Protection Agency (EPA) has submitted an information collection request (ICR), EPA's National Fish Program (EPA ICR Number 1959.07, OMB Control Number 2040-0226) to the Office of Management and Budget (OMB) for review and approval in accordance with the Paperwork Reduction Act. This is a proposed extension of the ICR, which is currently approved through April 30, 2022. Public comments were previously requested via the Federal Register on August 3, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 30, 2022.

ADDRESSES: Submit your comments, referencing Docket ID Number EPA-HQ-OW-2014-0350, to (1) EPA online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: CDR Samantha Fontenelle, Office of Water, Office of Science and Technology, Standards and Health Protection Division (4305T), Environmental Protection Agency, 1200 Pennsylvania Ave. NW, Washington, DC 20460; telephone number: (202) 566-2083; fax number: (202) 566-0409; email address: fontenelle.samantha@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This ICR is for voluntary information collections under the National Fish Program. These information collections would help EPA advance equitable and effective fish advisory programs that protect recreational and subsistence fishers and other underserved populations from consumption of contaminated fish. This information is collected under the authority of section 104 of the Clean Water Act, which provides for the collection of information to be used to protect human health and the environment. The information to be collected on a voluntary basis would include the following: Fish advisory information and fish tissue data collected to assist in making advisory decisions; state or tribal fish program information for the National Fish Advisory Program Evaluation; and, technical program information from time to time. EPA would analyze the information to determine what science, guidance, technical assistance, and nationwide information are needed to help state and tribes have equitable and effective fish advisory programs. In addition, EPA would also use the information provided to facilitate information sharing and to ensure guidance documents are useful and technically accurate.

Form Numbers: None.

Respondents/affected entities: The 50 states, the District of Columbia, the five territories, authorized tribes with EPA-approved water quality standards (WQS), and the Great Lakes Indian Fish and Wildlife Commission.

Respondent's obligation to respond: Voluntary (Clean Water Act, Section 104)

Estimated number of respondents: Up to 103 (total).

Frequency of response: Once in 3-year period for some collections; periodically for one collection.

Total estimated burden: 1,185 hours (per year). Burden is defined at 5 CFR 1320.03(b).

Total estimated cost: $65,268.77 (per year), includes $6,000 annualized capital or operation & maintenance costs.

Changes in the Estimates: There is an increase of 607 hours in the total estimated annual respondent burden compared with the ICR currently approved by OMB. This increase is due to EPA's efforts to advance equity and environmental justice in fish advisory programs. EPA is adding information collections to help EPA determine what science, guidance, technical assistance, and nationwide information are needed to help state and tribes have equitable and effective fish advisory programs that protect recreational and subsistence fishers and other underserved populations from consumption of contaminated fish. In addition, EPA will also use the information provided to facilitate information sharing and to ensure guidance documents are useful and technically accurate. The increase pertains to the addition of three voluntary information collections as part of implementing the EPA national advisory program: Information on state and tribal fish advisories; state and tribal program information for the National Fish Advisory Program Evaluation; and, technical program information from time to time.

Courtney Kerwin,
Director, Regulatory Support Division.

[FR Doc. 2022-04124 Filed 2-25-22; 8:45 am]

BILLING CODE 6560-50-P